DEPARTMENT OF DEFENSE

48 CFR Parts 202 and 225

Defense Federal Acquisition Regulation Supplement; Technical Amendments

AGENCY: Department of Defense (DoD).

ACTION: Final rule.

SUMMARY: DoD is making technical amendments to the Defense Federal Acquisition Regulation Supplement to update activity names and addresses.

DATES: Effective: September 30, 2004.

FOR FURTHER INFORMATION CONTACT: Ms. Michele Peterson, Defense Acquisition Regulations Council, OUSD (AT&L) DPAP (DAR), IMD 3C132, 3062 Defense Pentagon, Washington, DC 20301-3062. Telephone (703) 602-0311; facsimile (703) 602-0350.

List of Subjects in 48 CFR Parts 202 and 225

Government procurement.

Michele P. Peterson,
Executive Editor, Defense Acquisition Regulations Council.

Therefore, 48 CFR Parts 202 and 225 are amended as follows:

1. The authority citation for 48 CFR Parts 202 and 225 continues to read as follows:

Authority: 41 U.S.C. 421 and 48 CFR Chapter 1.

PART 202—DEFINITIONS OF WORDS AND TERMS

202.101 [Amended]

2. Section 202.101 is amended in the definition of “Contracting activity”, under the heading “DEPARTMENT OF DEFENSE”, by removing “Real Estate and Facilities Directorate, Washington Headquarter Services” and adding in its place “Acquisition and Procurement Office, Washington Headquarters Services”.

PART 225—FOREIGN ACQUISITION

225.870-5 [Amended]

3. Section 225.870-5 is amended in paragraph (a), in the second sentence, by revising the text after the second colon to read “DFAS Columbus Center, DFAS-CO/North Entitlement Operations, PO Box 182266, Columbus, OH 43218-2266.”.

[FR Doc. 04-21851 Filed 9-29-04; 8:45 am]

BILLING CODE 5001-08-P